DEPARTMENT OF LABOR

Mine Safety and Health Administration

30 CFR Part 75

RIN 1219-AA76

Underground Coal Mine Ventilation—Safety Standards for the Use of a Belt Entry as an Intake Air Course To Ventilate Working Sections and Areas Where Mechanized Mining Equipment Is Being Installed or Removed

AGENCY: Mine Safety and Health Administration (MSHA), Labor.

ACTION: Change of hearing dates.

SUMMARY: MSHA published hearing dates in the January 27, 2003 proposed rule on Safety Standards for the Use of a Belt Entry as an Intake Air Course to Ventilate Working Sections and Areas Where Mechanized Mining Equipment Is Being Installed or Removed (68 FR 3936). Three of the hearing dates published with the proposed rule conflict with other Agency hearings and are being changed. The hearing in Grand Junction, Colorado is changed from May 29, 2003 to April 3, 2003. The hearing in Charleston, West Virginia is changed from May 13, 2003 to April 8, 2003. The hearing in Washington, Pennsylvania is changed from May 15, 2003 to April 10, 2003. All of the hearing locations are printed under SUPPLEMENTARY INFORMATION for the convenience of the public.

FOR FURTHER INFORMATION CONTACT: Marvin W. Nichols, Jr., Director; Office of Standards, Regulations, and Variances, MSHA; phone: (202) 693-9440; facsimile: (202) 693-9441; E-mail: nichols-marvin@msha.gov.

SUPPLEMENTARY INFORMATION:

I. Public Hearings

The table contains information on the hearing dates, locations, and phone numbers for all of the hearings on “Safety Standards for the Use of a Belt Entry as an Intake Air Course to Ventilate Working Sections and Areas Where Mechanized Mining Equipment is Being Installed or Removed.”

Date | Location | Phone
April 3, 2003 | Holiday Inn Grand Junction, 755 Horizon Drive, Grand Junction, CO 81506 | (970) 243-6790
April 8, 2003 | Marriott Town Center, 200 Lee Street, Charleston, WV 25301 | (304) 345-6500
April 10, 2003 | Holiday Inn at the Meadows, 340 Racetrack Road, Washington, PA 15301 | (724) 222-6200
April 29, 2003 | Holiday Inn—Birmingham Airport, 5000 10th Avenue North, Birmingham, AL 35212 | (205) 591-6900
May 1, 2003 | Holiday Inn Lexington—North, 1950 Newton Pike, Lexington, KY 40305 | (859) 233-0512

Dated: March 7, 2003.
Dave D. Lauriski,
Assistant Secretary of Labor for Mine Safety and Health.

[FR Doc. 03-5942 Filed 3-11-03; 8:45 am]

BILLING CODE 4510-43-P